DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-ninth meeting.

Name: National Advisory Committee on Rural Health and Human Services.

Dates and Times: June 2, 2008, 9 a.m.-4:30 p.m. June 3, 2008, 8:45 a.m.-5:15 p.m. June 4, 2008, 8:15 a.m.-10:30 a.m.

Place: Siena Hotel, 1505 East Franklin Street, Chapel Hill, NC 27514. Phone: 919-929-4000.

Status: The meeting will be open to the public.

Purpose: The National Advisory Committee on Rural Health and Human Services provides advice and recommendations to the Secretary with respect to the delivery, research, development and administration of health and human services in rural areas.

Agenda: Monday morning, at 9 a.m., the meeting will be called to order by the Chairperson of the Committee, the Honorable David Beasley. The first presentation will be an overview of rural North Carolina. The Committee will hear presentations on the three chosen Subcommittee topics. The first panel will focus on Workforce and Community Development. Erin Fraher, MPH, with the Rural Health Research and Policy Analysis Center, is a confirmed speaker. The second panel of speakers will lead a discussion on At-Risk Children. The final panel for the day is on the Medical Home Model. After the panel discussions, the Committee Chair will give an overview of the site visits. The Monday meeting will close at 4:30 p.m.

Tuesday morning, at 8:45 a.m., the Committee will break into Subcommittees and depart to the site visits. The Workforce and Community Development Subcommittee will depart to Raleigh, North Carolina, to visit the Turning Point Allied Health Regional Skills Partnership. The At-Risk Children Subcommittee will depart to Siler City, North Carolina and take a “ChildWatch” Tour where they will learn about the different services provided for children and the status of children and families. After the tour, the Subcommittee will arrive at the Chatham Family Resource Center. The Medical Home Subcommittee will depart for Community Care of Eastern Carolina in Greenville, North Carolina. Transportation to the site visits will not be provided to the public. At 4:15 p.m. the Subcommittees will arrive back at the Siena Hotel for Subcommittee meetings. The Tuesday meeting will close at 5:15 p.m.

The final session will be convened Wednesday morning, at 8:15 a.m. The Committee will break into Subcommittee format and meet for forty-five minutes. The Committee as a whole will reconvene at 9 a.m. There will be a review of the site visits and action items will be developed for the Committee members and staff. The Committee will draft the letter to the Secretary and discuss the September meeting. The meeting will be adjourned at 10:30 a.m.

For Further Information Contact: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone (301) 443-0835. The Committee meeting agenda will be posted on ORHP's Web site http://www.ruralhealth.hrsa.gov.

Dated: April 16, 2008.
Alexandra Huttinger,
Director, Division of Policy Review and Coordination.

[FR Doc. E8-9010 Filed 4-23-08; 8:45 am]

BILLING CODE 4165-15-P